DEPARTMENT OF HEALTH AND HUMAN SERVICES

Administration for Community Living

Agency Information Collection Activities; Submission for OMB Review; Public Comment Request; State Councils on Developmental Disabilities—Annual Program Performance Report (PPR) (OMB Control Number—0985-0033)

AGENCY: Administration on Intellectual and Developmental Disabilities (AIDD), Administration for Community Living (ACL), U.S. Department of Health and Human Services (HHS).

ACTION: Notice.

SUMMARY: The Administration for Community Living is announcing that the proposed collection of information listed above has been submitted to the Office of Management and Budget (OMB) for review and clearance as required under section 506(c)(2)(A) of the Paperwork Reduction Act of 1995. This 30-day notice collects comments on the information collection requirements related to the State Councils on Developmental Disabilities—Annual Program Performance Report (PPR) [Proposed Extension with Changes of a Currently Approved Collection (ICR Rev)].

DATES: Submit written comments on the collection of information by July 16, 2018.

ADDRESSES: Submit written comments on the collection of information by:

(a) Email to: OIRA_submission@omb.eop.gov, Attn: OMB Desk Officer for ACL;

(b) fax to 202.395.5806, Attn: OMB Desk Officer for ACL; or

(c) by mail to the Office of Information and Regulatory Affairs, OMB, New Executive Office Bldg., 725 17th St. NW, Rm. 10235, Washington, DC 20503, Attn: OMB Desk Officer for ACL.

FOR FURTHER INFORMATION CONTACT: Sara Newell-Perez at (202) 795-7413 or Sara.Newell-Perez@acl.hhs.gov.

SUPPLEMENTARY INFORMATION: In compliance with 44 U.S.C. 3507, ACL has submitted the following proposed collection of information to OMB for review and clearance. The proposed data collection represents a revision of a currently approved information collection (ICR-Rev). This collection is necessary for the proper performance and function of the agency. On an annual basis, Councils are required to submit a Program Performance Report (PPR) to describe the extent to which annual progress is being achieved on the 5-year State plan goals. The PPR will be used by (1) the Council as a planning document to track progress made in meeting state plan goals; (2) the citizenry of the State as a mechanism for monitoring progress and activities on the plans of the Council; and (3) the Department as a stewardship tool for ensuring compliance with the Developmental Disabilities Assistance and Bill of Rights Act of 2000 and for monitoring and providing technical assistance (e.g., during site visits), and support for management decision making.

Comments in Response to the 60-Day Federal Register Notice

A notice was published in the Federal Register on October 4, 2017 (Vol. 82, Number 191; pp. 46246-46247). Two comments were received. The first was a comment about ACL and policies around deinstitutionalization. The second comment requested that Councils have more transparency and make their PPRs available to the public via their websites. ACL appreciates and understands these comments. Although ACL recognizes that these comments might provide useful information for the program, it is not required to meet the statutory requirements for this program. No change is proposed.

The proposed template may be found on the ACL website at https://www.acl.gov/about-acl/public-input.

Estimated Program Burden

ACL estimates the burden of this collection of information as follows: The total estimated hour burden per respondent for the proposed DD Council PPR will increase from the 138 hours estimated in 2015 to 172 burden hours per response. The number of hours is multiplied by 56 State Council programs, resulting in a total estimated hour aggregate burden of 9,632.

Respondent/data collection activity | Number of respondents | Responses per respondent | Hours per response | Annual burden hours
State Councils on Developmental Disabilities/Program Performance Report | 56 | 1 | 172 | 9632
Total | 56 | 1 | 172 | 9632

Dated: June 7, 2018.
Lance Robertson,
Administrator and Assistant Secretary for Aging.

[FR Doc. 2018-12826 Filed 6-14-18; 8:45 am]

BILLING CODE 4154-01-P